DEPARTMENT OF AGRICULTURE

Animal and Plant Health Inspection Service

9 CFR Part 77

[Docket No. 00-055-1]

Tuberculosis in Cattle and Bison; State and Zone Designations

AGENCY: Animal and Plant Health Inspection Service, USDA.

ACTION: Interim rule and request for comments.

SUMMARY: We are amending the bovine tuberculosis regulations regarding State and zone risk classifications to remove the split-State status of the State of Michigan and to classify the entire State as nonmodified accredited. This action is necessary to help prevent the spread of tuberculosis because Michigan no longer meets the requirements for split-State status.

DATES: This interim rule is effective June 22, 2000. We invite you to comment on this docket. We will consider all comments that we receive August 28, 2000.

ADDRESSES: Please send your comment and three copies to: Docket No. 00-055-1, Regulatory Analysis and Development, PPD, APHIS, Suite 3C03, 4700 River Road, Unit 118, Riverdale, MD 20737-1238.

Please state that your comment refers to Docket No. 00-055-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Joseph Van Tiem, Senior Staff Veterinarian, VS, APHIS, USDA, 4700 River Road Unit 43, Riverdale, MD 20737-1231; (301) 734-7716.

SUPPLEMENTARY INFORMATION:

Background

Bovine tuberculosis is a contagious, infectious, and communicable disease caused by Mycobacterium bovis. It affects cattle, bison, deer, elk, goats, and other species, including humans. Bovine tuberculosis in infected animals and humans manifests itself in lesions of the lung, bone, and other body parts, causes weight loss and general debilitation, and can be fatal.

At the beginning of this century, bovine tuberculosis caused more losses of livestock than all other livestock diseases combined. This prompted the establishment of the National Cooperative State/Federal Bovine Tuberculosis Eradication Program for bovine tuberculosis in livestock.

Federal regulations implementing this program are contained in 9 CFR part 77, “Tuberculosis” (referred to below as the regulations), and in the “Uniform Methods and Rules— Bovine Tuberculosis Eradication” (UMR), which is incorporated by reference into the regulations. The regulations restrict the interstate movement of cattle, bison, and captive cervids to prevent the spread of bovine tuberculosis.

Restrictions on the interstate movement of cattle and bison not known to be infected with or exposed to tuberculosis are based on whether the animals are moved from States or zones designated as accredited-free States or zones, accredited-free (suspended) States or zones, modified accredited States or zones, or nonmodified accredited States or zones. The status of a State or zone is based on its freedom from evidence of tuberculosis in cattle and bison, the effectiveness of the State's tuberculosis eradication program, and the degree of the State's compliance with the standards for cattle and bison contained in the UMR.

Prior to the effective date of an interim rule that we published in the Federal Register on November 1, 1999 (64 FR 58769-58780, Docket No. 99-008-1), and that was effective as of October 20, 1999, there were no provisions in the regulations to allow separate tuberculosis status for different zones within a State. Even if herds affected with tuberculosis were confined to a very limited area of a State, the classification of the entire State had to take into account the disease situation in that limited area.

One of the changes to the regulations we made in our interim rule was to allow recognition of separate zones with differing tuberculosis risk classifications within a State. We defined “zone” to mean a defined geographic land area identifiable by geological, political, manmade, or surveyed boundaries, with mechanisms of disease spread, epidemiological characteristics, and the ability to control the movement of animals across the boundary of the zone taken into account.

To achieve APHIS recognition of such zones, the zones and the State in question must meet certain requirements. First, the State must have the legal and financial resources to implement and enforce a tuberculosis eradication program, as well as the infrastructure, laws, and regulations to require and ensure that tuberculosis cases are reported to State and Federal regulatory authorities. Further, the State must maintain clinical and epidemiological surveillance of animal species at risk of tuberculosis at a rate that allows detection of tuberculosis in the overall population of livestock herds in each zone at a 2 percent prevalence rate (the average prevalence in a herd containing infected animals) with 95 percent confidence. Additionally, a State seeking APHIS recognition of a zone with regard to tuberculosis must enter into a memorandum of understanding with APHIS in which the State agrees to adhere to any conditions for zone recognition particular to that request. As we stated in the interim rule, such a memorandum of understanding is necessary to address epidemiological circumstances particular to the State in question. For instance, in a State in which free-ranging wildlife may be a reservoir of tuberculosis, it may be necessary to conduct baseline surveillance among such wildlife; whereas in a State with less of a risk of tuberculosis in wildlife, such surveillance may not be necessary.

In the interim rule, we recognized specific zones in only one State—the State of Michigan. We stated that Michigan had demonstrated to APHIS that it had the resources to enforce a tuberculosis eradication program and to ensure that diagnoses of tuberculosis are reported to State and Federal authorities, and that it was capable of maintaining surveillance that allows detection of tuberculosis in the overall population of livestock at a 2 percent prevalence rate with 95 percent confidence. We stated additionally that Michigan would enter into a memorandum of understanding with APHIS regarding any conditions for zone recognition particular to that State's circumstances.

Based on the conditions described above, in our November 1, 1999, interim rule, we recognized two zones in Michigan. The smaller of the two zones was classified as nonmodified accredited because the prevalence of tuberculosis among cattle and bison in that zone exceeded the level allowable for modified accredited status. The larger zone, which consisted of most of Michigan, was classified as accredited free.

Because tuberculosis exists in wildlife, particularly cervids, in the smaller zone in Michigan to such an extent that it poses a significant risk to livestock, the memorandum of understanding between APHIS and the State of Michigan included provisions to address that risk. These provisions included an agreement by Michigan to establish three areas of descending risk in the nonmodified accredited zone, with minimum dimensions for the areas of greatest risk. Michigan further agreed to enforce certification, testing, and other surveillance requirements for intrastate movement within the nonmodified accredited zone.

At the time we published our November 1, 1999, interim rule, the detection of tuberculosis in Michigan was limited to a small enough number of livestock herds and localized groups of wildlife that the State had determined it could adequately enforce the intrastate restrictions in the memorandum of understanding. However, since November 1999, Michigan has detected tuberculosis in wildlife at additional sites involving a greater area of the nonmodified accredited zone. Due to these additional detections, Michigan has now determined that it can carry out its tuberculosis control and eradication program more effectively with a single set of statewide requirements than with different requirements for two zones within the State. Therefore, in this interim rule, we are removing Michigan's split-State tuberculosis status. Because the prevalence of tuberculosis-affected cattle and bison herds in Michigan as a whole slightly exceeds that allowed for either accredited-free or modified accredited status, we are classifying Michigan as nonmodified accredited.

Emergency Action

The Administrator of the Animal and Plant Health Inspection Service has determined that an emergency exists that warrants publication of this interim rule without prior opportunity for public comment.

Because the State of Michigan has determined that it cannot at this time effectively carry out its tuberculosis eradication program on the basis of split-State tuberculosis status, it is necessary for APHIS to remove such status from the State to help prevent the spread of tuberculosis to and among livestock.

Because prior notice and other public procedures with respect to this action are impracticable and contrary to the public interest under these conditions, we find good cause under 5 U.S.C. 553 to make this action effective less than 30 days after publication in the Federal Register. We will consider comments that are received within 60 days of publication of this rule in the Federal Register. After the comment period closes, we will publish another document in the Federal Register. The document will include a discussion of any comments we receive and any amendments we are making to the rule as a result of the comments.

Executive Order 12866 and Regulatory Flexibility Act

This rule has been reviewed under Executive Order 12866. For this action, the Office of Management and Budget has waived its review process required by Executive Order 12866.

This emergency situation makes timely compliance with section 604 of the Regulatory Flexibility Act (5 U.S.C. 601 et seq.) impracticable. We are currently assessing the potential economic effects of this action on small entities. Based on that assessment, we will either certify that the rule will not have a significant economic impact on a substantial number of small entities or publish a final regulatory flexibility analysis.

Executive Order 12372

This program/activity is listed in the Catalog of Federal Domestic Assistance under No. 10.025 and is subject to Executive Order 12372, which requires intergovernmental consultation with State and local officials. (See 7 CFR part 3015, subpart V.)

Executive Order 12988

This interim rule has been reviewed under Executive Order 12988, Civil Justice Reform. This rule: (1) Preempts all State and local laws and regulations that are in conflict with this rule; (2) has no retroactive effect; and (3) does not require administrative proceedings before parties may file suit in court challenging this rule.

Paperwork Reduction Act

This rule contains no information collection or recordkeeping requirements under the Paperwork Reduction Act of 1995 (44 U.S.C. 3501 et seq.).

List of Subjects in 9 CFR Part 77

Animal diseases, Bison, Cattle, Incorporation by reference, Reporting and recordkeeping requirements, Transportation, Tuberculosis.

Accordingly, we are amending 9 CFR part 77 as follows:

PART 77—TUBERCULOSIS

1. The authority citation for part 77 continues to read as follows:

Authority: 21 U.S.C. 111, 114, 114a, 115-117, 120, 121, 134b, and 134f; 7 CFR 2.22, 2.80, and 371.2(d).

2. Section 77.3 is amended by revising paragraph (b) to read as follows:

§ 77.3 Accredited-free States or zones.

* * * * *

(b) The following are accredited-free zones: None.

* * * * *

3. Section 77.5 is amended by revising paragraphs (a) and (b) to read as follows:

§ 77.5 Nonmodified accredited States or zones.

(a) The following are nonmodified accredited States: Michigan.

(b) The following are nonmodified accredited zones: None.

* * * * *

Done in Washington, DC, this 22nd day of June 2000.
Bobby R. Acord,
Acting Administrator, Animal and Plant Health Inspection Service.

[FR Doc. 00-16315 Filed 6-27-00; 8:45 am]

BILLING CODE 3410-34-P